FEDERAL COMMUNICATIONS COMMISSION

47 CFR Part 73

[DA 01-2047, MM Docket No. 99-262, RM-9659]

Digital Television Broadcast Service; Spokane, WA

AGENCY: Federal Communications Commission.

ACTION: Final rule.

SUMMARY: The Commission, at the request of Spokane School District #81, licensee of noncommercial station KSPS(TV), substitutes DTV channel *8 for DTV channel *39 at Spokane, Washington. See 64 FR 40331, July 26, 1999. DTV channel *8 can be allotted to Spokane in compliance with the principle community coverage requirements of Section 73.625(a) at reference coordinates (47-34-34 N. and 117-17-58 W.) with a power of 21.6, HAAT of 558 meters and with a DTV service population of 545 thousand. Since Spokane is located within 400 kilometers of the U.S.-Canadian border, concurrence by the Canadian government has been obtained for this allotment.

With is action, this proceeding is terminated.

DATES: Effective October 22, 2001.

FOR FURTHER INFORMATION CONTACT: Pam Blumenthal, Mass Media Bureau, (202) 418-1600.

SUPPLEMENTARY INFORMATION: This is a synopsis of the Commission's Report and Order, MM Docket No. 99-262, adopted August 30, 2001, and released September 5, 2001. The full text of this document is available for public inspection and copying during regular business hours in the FCC Reference Information Center, Portals II, and 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

§ 73.622 [Amended]

2. Section 73.622(b), the Table of Digital Television Allotments under Washington, is amended by removing DTV channel *39 and adding DTV channel *8 at Spokane.

Federal Communications Commission.
Barbara A. Kreisman,
Chief, Video Services Division, Mass Media Bureau.

[FR Doc. 01-23056 Filed 9-13-01; 8:45 am]

BILLING CODE 6712-01-P